DEPARTMENT OF JUSTICE

Antitrust Division

Notice Pursuant to the National Cooperative Research and Production Act of 1993—DVD Copy Control Association (“DVD CCA”)

Notice is hereby given that, on July 23, 2004, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, BK DGTEC Co., Ltd., Seoul, Republic of Korea; Digeo Interactive, LLC, Palo Alto, CA; Eizano Nanao Corporation, Ishikawa, Japan; and Molino Networks, Inc., Santa Cruz, CA have been added as parties to this venture. Also, Aplus Technics Co., Ltd., Taipei Hsian, Taiwan; Aralion Inc., Seoul, Republic of Korea; Argus Electronics Co., Ltd., Taipei, Taiwan; Concord Disc Manufacturing Corp., Anaheim, CA; Dai Hwa Industrial Co., Ltd., Chungli, Taiwan; Escient Technologies, LLC, Indianapolis, IN; Force NO A/S, Oslo, Norway; Guangdong Kwanloon Electronics and Technology, Co., Ltd., Shenzhen, People's Republic of China; HERTZ Engineering Co., Ltd., Tokyo, Japan; Hirel Co., Ltd., Tokyo, Japan; Musion Co., Ltd., Seoul, Republic of Korea; Oak Technology, Inc., Sunnyvale, CA; Pony Canyon Enterprise Inc., Tokyo, Japan; Prochips Technology Inc., Seoul, Republic of Korea; Pro-Tech Industries Corp., Hong Kong, Hong Kong-China; Ritek Corporation, HsinChu Industrial Park, Taiwan; SANYO Laser Products, Inc., Richmond, IN; Soft4D Co., Ltd., Seoul, Republic of Korea; and WEA Manufacturing Inc., Olyphant, PA have been dropped as parties to this venture.

No other changes have been made in either the membership or planned activity of the group research project. Membership in this group research project remains open, and DVD CCA intends to file additional written notification disclosing all changes in membership.

On April 11, 2001, DVD CCA filed its original notification pursuant to Section 6(1) of the Act. The Department of Justice published a notice in the Federal Register pursuant to Section 6(b) of the Act on August 3, 2001 (66 FR 40727).

The last notification was filed with the Department on July 2, 2004. The Department of Justice published a notice in the Federal Register pursuant to Section 6(b) of the Act on August 6, 2004 (69 FR 47959).

Dorothy B. Fountain,
Deputy Director of Operations, Antitrust Division.

[FR Doc. 04-19363 Filed 8-23-04; 8:45 am]

BILLING CODE 4410-11-M